ENVIRONMENTAL PROTECTION AGENCY

[EPA-HQ-OW-2008-0667, FRL-9911-52-OW]

Proposed Information Collection Request; Comment Request; Cooling Water Intake Structures at Existing Facilities (Final Rule)

AGENCY: Environmental Protection Agency (EPA).

ACTION: Notice.

SUMMARY: The Environmental Protection Agency (EPA) is planning to submit an information collection request (ICR), “Cooling Water Intake Structures at Existing Facilities (Final Rule)” to the Office of Management and Budget (OMB) for review and approval in accordance with the Paperwork Reduction Act. Before doing so, EPA is soliciting public comments on specific aspects of the proposed information collection as described below. This is a revision of an existing ICR. An Agency may not conduct or sponsor and a person is not required to respond to a collection of information unless it displays a currently valid OMB control number.

DATES: Comments must be submitted on or before July 28, 2014.

ADDRESSES: Submit your comments, referencing Docket ID No. EPA-HQ-OW-2008-0667 online using www.regulations.gov (our preferred method), by email to OW-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Samantha Lewis, Engineering and Analysis Division, Office of Science and Technology, Office of Water, (4303T), Environmental Protection Agency, 1200 Pennsylvania Ave. NW., Washington, DC 20460; telephone number: 202-566-1058; fax number: 202-566-1053; email address: Lewis.Samantha@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit .

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval.

EPA ICR Number: 2060.07.

OMB Control Number: 2040-0257.

Abstract: The section 316(b) Existing Facility Final Rule applies to existing facilities that use cooling water intake structures to withdraw water from waters of the United States and have or require a National Pollutant Discharge Elimination System (NPDES) permit issued under section 402 of the Clean Water Act (CWA). If a facility meets the conditions specified below (from 40 CFR 125.91), it is subject to the rule. If a facility has or requires an NPDES permit but does not meet the 2 million gallons per day (mgd) intake flow threshold, it is subject to permit conditions implementing CWA section 316(b) developed by the NPDES permit director on a case-by-case basis using best professional judgment (BPJ). The rule applies to owners and operators of existing facilities that meet all of the following criteria:

• The facility is a point source;

• The facility uses or proposes to use one or more cooling water intake structures with a cumulative design intake flow (DIF) of greater than 2 mgd to withdraw water from waters of the United States; and

• Twenty-five percent or more of the water the facility withdraws on an actual intake flow basis is used exclusively for cooling purposes.

Generally, facilities that meet these criteria fall into two major groups: steam electric generating facilities and manufacturing facilities. The rule also makes limited corrections to the requirements for “Phase I” facilities (i.e., new facilities).¹

¹ This ICR does not calculate the burden and costs associated with amendments related to the Phase I Rule (66 FR 65255, December 18, 2001; amended 68 FR 36749, June 19, 2003), as the changes to the Phase I rule promulgated today do not materially affect the burden associated with compliance for Phase I facilities. See the 76 FR 22183 for a discussion of the amendments to the Phase I Rule.

The rule establishes national requirements applicable to the location, design, construction, and capacity of cooling water intake structures at existing facilities that reflect the best technology available for minimizing the adverse environmental impact—impingement and entrainment—associated with the use of these structures. The rule requires several types of information collection as part of the NPDES permit application. In general, the information would be used to identify both how the facility plans to meet the rule requirements and if the facility is meeting the rule requirements. Specific data requirements that apply to all facilities are:

• Source water physical data which shows the physical configuration of all source waterbodies used by the facility, identifies and characterizes the source waterbody's hydrological and geomorphological features, and provides location through maps [§ 122.21(r)(2)].

• Cooling water intake structure data which shows the configuration and location of cooling water intake structures, provides details on the design and operation of each cooling water intake structure, and diagrams showing flow distribution and water balance [§ 122.21(r)(3)].

• Source water baseline biological characterization data that characterizes the biological community in the vicinity of the cooling water intake structure (CWIS) and characterizes the operation of the CWIS [§ 122.21(r)(4)].

• Cooling water system data that, among other things, describes the operation of the cooling water system, its relationship to the CWIS, the proportion of the design intake flow used in the system, the number of days the cooling water system is operational and seasonal changes in operation, as well as design and engineering calculations to support these descriptions [§ 122.21(r)(5)].

• Intended method of compliance information that describes how the facility will meet the impingement mortality standards; the specific requirements vary, depending on the compliance approach chosen by the facility. This information would be reflected in the facility's Impingement Technology Performance Optimization Study [§ 122.21(r)(6)].

• Description of any biological survival studies conducted at the facility and a summary of any conclusions or results for entrainment related studies only [§ 122.21(r)(7)].

• Operational status data that describes the operational status of each generating, production, or process unit [§ 122.21(r)(8)].

In addition to the above requirements, existing facilities with actual intake flows in excess of 125 mgd actual intake flow are required as part of the permit application process to submit an entrainment characterization study and related supporting information [(§ 122.21(r)(9)-(12)] that has been peer reviewed [§ 122.21(r)(13)]. Facilities that withdraw less than 125 mgd actual intake flow do not have specific permit application requirements for entrainment but the Director may require additional information on a site-specific basis.²

² For this ICR, no burden has been assigned for entrainment-related studies at § 122.21(r)(9)-(13) for facilities that withdraw less than 125 mgd actual intake flow, as it is not possible to project which facilities might be required to submit these studies.

Under the rule, a new unit at an existing facility that withdraws more than 2 mgd would have requirements similar to the requirements of a new facility in Phase I. A new unit (as defined at § 125.92(u)) is required to reduce flow commensurate with closed-cycle cooling. Alternatively, a facility could demonstrate compliance with the entrainment control requirements by establishing reductions in entrainment mortality for the new unit that are 90 percent or greater of the reductions that would be achieved by closed-cycle cooling.

Finally, facilities are required to maintain records of all submitted documents, supporting materials, and monitoring results for at least five years. Depending on the compliance method chosen, facilities may also be required to perform compliance monitoring to demonstrate that their selected method of complying with the impingement mortality standard (e.g. screen velocity, actual intake flow, numeric impingement mortality performance) achieves the required performance.

Form Numbers: None.

Respondents/affected entities: Respondents include existing electric power generating facilities, including traditional steam electric utilities and nonutility power producers. The rule also applies to existing manufacturing and industrial facilities. EPA anticipates that the regulated manufacturing facilities will be largely concentrated in five industrial sectors: Chemicals and allied products; primary metals industries; paper and allied products; petroleum and coal products; and food and kindred products.

Respondent's obligation to respond: Mandatory, under section 316 of the Federal Water Pollution Control Act Amendments of 1972 (Pub. L. 92-500).

Estimated number of respondents: 1,115 (1,068 facility respondents and 47 state respondents).

Frequency of response: Varies (monthly, quarterly, or annually; every 5 years).

Total estimated burden: Total estimated burden is 634,596 hours (per year). Burden is defined at 5 CFR 1320.03(b).

Total estimated cost: $37,725,394 (per year), includes $8,525,907annualized capital and operation & maintenance costs (all costs in 2011 dollars).

Changes in Estimates: There is a decrease of 388,925 hours in the total estimated respondent burden compared with the ICR currently approved by OMB. This decrease is due to changes in program requirements. The currently approved ICR is for electric generators with a DIF of at least 50 mgd and that were subject to the 2004 Phase II rule. Many of these facilities have already met most of the new data collection requirements of the revised rule. Newly affected facilities have significantly fewer comprehensive requirements for data collection than was required under the Phase II rule, such as less frequent biological data collection. Further, while the overall universe of affected facilities has increased, more facilities in the affected universe already meet the requirements of the revised rule.

Dated: May 19, 2014.
Elizabeth Southerland,
Director, Office of Science and Technology.

[FR Doc. 2014-12312 Filed 5-27-14; 8:45 am]

BILLING CODE 6560-50-P